DEPARTMENT OF ENERGY

Federal Energy Regulatory Commission

Combined Notice of Filings # 1

March 29, 2006.

Take notice that the Commission received the following electric rate filings.

Docket Numbers: ER05-1233-001.

Applicants: MidAmerican Energy Company.

Description: MidAmerican Energy Co. submits its pro forma revised tariff sheets for its OATT with a proposed effected date of 4/1/06.

Filed Date: 03/22/2006.

Accession Number: 20060328-0012.

Comment Date: 5 p.m. Eastern Time on Wednesday, April 12, 2006.

Docket Numbers: ER06-486-001.

Applicants: Central Illinois Public Service Company; Illinois Power Company; Union Electric Company.

Description: Ameren Services Co. dba Central Illinois Public Service Co. et al. submits agreements with revised designations to comply with FERC's letter order issued 3/2/06.

Filed Date: 03/22/2006.

Accession Number: 20060327-0046.

Comment Date: 5 p.m. Eastern Time on Wednesday, April 12, 2006.

Docket Numbers: ER06-562-001.

Applicants: Southern Company Services, Inc.

Description: Southern Company Services, Inc. on behalf of Georgia Power Co. submits its response to the Commission's 3/8/06 Deficiency Letter concerning its Integrated Transmission System Investment Responsibility Reconciliation Agreement.

Filed Date: 03/23/2006.

Accession Number: 20060328-0010.

Comment Date: 5 p.m. Eastern Time on Thursday, April 13, 2006.

Docket Numbers: ER06-706-000.

Applicants: Entergy Services, Inc.

Description: Entergy Services, Inc. on behalf of Entergy Arkansas, Inc. submits corrected sheets A.1, B.1, and B.8 to be accepted for filing effective 3/1/06 etc.

Filed Date: 03/23/2006.

Accession Number: 20060327-0091.

Comment Date: 5 p.m. Eastern Time on Thursday, April 13, 2006.

Docket Numbers: ER06-771-000; ER06-772-000; ER06-773-000.

Applicants: ExxonMobil Baton Rouge Complex; Beaumont Complex; LarBarge Shute Creek Treating Facility.

Description: ExxonMobil Power and Gas Service Inc., on behalf of ExxonMobil's Baton Rouge Complex et al. submits an addendum to its application for an order accepting initial market-based rate tariff.

Filed Date: 03/17/2006.

Accession Number: 20060328-0091.

Comment Date: 5 p.m. Eastern Time on Friday, April 7, 2006.

Docket Numbers: ER06-774-000.

Applicants: Pacificorp; MidAmerican Energy Company; Cordova Energy Company LLC.

Description: MidAmerican Energy Co. et al. submit revised codes of conduct to reflect the new affiliate relationships among the Applicants as a result of the sale of PacifiCorp etc.

Filed Date: 03/21/2006.

Accession Number: 20060328-0080.

Comment Date: 5 p.m. Eastern Time on Tuesday, April 11, 2006.

Docket Numbers: ER06-775-000.

Applicants: Public Service Company of New Mexico.

Description: Public Service Company of New Mexico submits its Interim Invoicing Agreement for San Juan Generating Station dated 12/31/05.

Filed Date: 03/20/2006.

Accession Number: 20060328-0111.

Comment Date: 5 p.m. Eastern Time on Monday, April 10, 2006.

Docket Numbers: ER06-776-000.

Applicants: Golden Spread Electric Cooperative, Inc.

Description: Golden Spread Electric Cooperative, Inc. submits its First Revised Sheet 500 and 501 to First Electric Rate Schedule 23-33 pursuant to Section 205 of the Federal Power Act etc.

Filed Date: 03/22/2006.

Accession Number: 20060328-0081.

Comment Date: 5 p.m. Eastern Time on Wednesday, April 12, 2006.

Docket Numbers: ER06-777-000.

Applicants: Connectiv Energy Supply, Inc.

Description: Conectiv Energy Supply, Inc. submits its request for authorization to make wholesale power sales to its affiliate, Delmarva Power & Light Co.

Filed Date: 03/22/2006.

Accession Number: 20060328-0086.

Comment Date: 5 p.m. Eastern Time on Wednesday, April 12, 2006.

Docket Numbers: ER06-779-000.

Applicants: Carolina Power & Light Company.

Description: Carolina Power & Light Co. dba Progress Energy Carolinas, Inc. submits a notice of termination of the Standard Large Generator Interconnection Agreement with North Carolina Electric Membership Corp.

Filed Date: 03/23/2006.

Accession Number: 20060328-0075.

Comment Date: 5 p.m. Eastern Time on Thursday, April 13, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-4878 Filed 4-4-06; 8:45 am]

BILLING CODE 6717-01-P